SMALL BUSINESS ADMINISTRATION

[Disaster Declaration #12100 and #12101]

Massachusetts Disaster Number MA-00025

AGENCY: U.S. Small Business Administration.

ACTION: Amendment 3.

SUMMARY: This is an amendment of the Presidential declaration of a major disaster for the Commonwealth of Massachusetts (FEMA-1895-DR), dated 03/29/2010.

Incident: Severe Storms and Flooding.

Incident Period: 03/12/2010 through 04/26/2010.

DATES: Effective Date: 06/29/2010.

Physical Loan Application Deadline Date: 07/12/2010.

EIDL Loan Application Deadline Date: 12/29/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the Commonwealth of Massachusetts, dated 03/29/2010 is hereby amended to extend the deadline for filing applications for physical damages as a result of this disaster to 07/12/2010.

All other information in the original declaration remains unchanged.

(Catalog of Federal Domestic Assistance Numbers 59002 and 59008)

James E. Rivera,
Associate Administrator for Disaster Assistance.

[FR Doc. 2010-16444 Filed 7-6-10; 8:45 am]

BILLING CODE 8025-01-P